DEPARTMENT OF COMMERCE

National Oceanic and Atmospheric Administration

Draft Damage Assessment and Restoration Plan and Environmental Assessment for Natural Resource Injuries and Service Losses Associated With the 2010 Oil Spill From the Adak Petroleum Bulk Fuel Facility on Adak Island, Alaska

AGENCY: National Oceanic and Atmospheric Administration (NOAA), Commerce.

ACTION: Notice of Availability of the Draft Damage Assessment and Restoration Plan and Environmental Assessment for natural resource injuries and service losses associated with the 2010 oil spill from the Adak Petroleum Bulk Fuel Facility on Adak Island, located in the central Aleutian Islands of Alaska.

SUMMARY: Pursuant to the requirements of the Oil Pollution Act of 1990 (OPA), 33 U.S.C. 2701 et seq. and related sections of Alaska law, including AS 46.03.760 and AS 46.03.780, notice is hereby given that a document entitled, “Damage Assessment and Restoration Plan and Environmental Assessment for the January 11, 2010 Adak Petroleum Diesel Spill” (Draft DARP/EA) is being made available for public review.

DARP/EA: This Draft DARP/EA has been approved by the State and Federal Natural Resource Trustee agencies (the Trustees) including: the National Oceanic and Atmospheric Administration (NOAA), acting on behalf of the Department of Commerce; United States Fish & Wildlife Service, acting on behalf of the U.S. Department of the Interior (USFWS/DOI); and the State of Alaska's Department of Environmental Conservation, Department of Fish and Game, Department of Natural Resources and Department of Law. The Trustees act on behalf of the public under OPA and State law to protect and restore natural resources injured or lost as a result of unpermitted oil discharges.

Public Review and Comment: The publication of this notice opens the period for public comment on the draft DARP/EA. All comments must be submitted no later than thirty (30) days after the publication date in this Federal Register. Comments may be sent electronically or in written form. Written comments may be sent to: Ian Zelo, NOAA Oil Spill Coordinator, Assessment and Restoration Division, 7600 Sand Point Way NE., Seattle, WA 98115. Electronic comments may be sent directly to: ian.j.zelo@noaa.gov.

Please provide a subject line, indicating that your comments relate to restoration planning for the Adak 2010 oil spill. Any comments received will become part of the administrative record and will be available to the public. Please be aware that your entire comment—including your personal identifying information—may be made publicly available.

FOR FURTHER INFORMATION CONTACT: The Draft Final DARP/EA is available for downloading at http://www.darrp.noaa.gov (by clicking on the document title in the Adak DARP/EA announcement on that page). Copies of the DARP/EA are also available for review at: (1) UAA Consortium Library ARLIS, Library Building, Suite 111, 3211 Providence Drive, Anchorage, AK 99508, Reference Desk, (907) 27-ARLIS; and 2) Z.J. Loussac Public Library, 3600 Denali Street, Anchorage, AK 99503, Reference Desk, (907) 343-2975. The document will also be posted at: Adak City Hall, 100 Mechanic's Way, Adak, Alaska 99546. Requests for further information can be obtained through Ian Zelo at the contact information provided above.

SUPPLEMENTARY INFORMATION: The Adak January 11, 2010 oil spill involved releases of up to 142,000 gallons of diesel fuel from the Adak Petroleum Bulk Fuel facility into Helmet Creek and related waterways. Diesel contamination was observed in streams and wetlands that provide habitat for pink salmon, Dolly Verden, juvenile fish, and marine birds. The Trustees assessed natural resource injuries and resource services losses in the spill area, while outlining potential restoration alternatives and considering the direct, indirect, and cumulative impacts of these alternatives on the human environment. The Trustees are working with Adak Petroleum to resolve its liability through the restoration and rehabilitation of natural resources injured by the oil discharge.

Proposed Restoration: The Draft DARP/EA identifies the restoration projects that the Trustees propose to restore resources and services to compensate the public for assessed losses. The Trustees' restoration objectives are: (1) Improve Helmet Creek, restore juvenile and adult fish passage, (2) Improve water quality, and (3) Allow for improved habitat for salmonid species. The Trustees considered various alternative projects to address these restoration goals, which are outlined in this DARP/EA. However, after reviewing these alternatives, the Trustees agreed that the proposed restoration alternative best met their objectives. The proposed preferred alternative includes the following projects:

(1) Remove two trash racks from culverts in Helmet Creek.

(2) Restore grade of creek for fish passage.

(3) Improve low flow passage inside the Creek's culvert and above the tank farm.

(4) Remove debris from the creek and floodplain.

(5) Revegetate banks to minimize disturbance and provide bank stability.

Adak Petroleum, as the Responsible Party for this spill, will be funding and implementing restoration at the Helmet Creek site, under Trustee supervision. This restoration work will be undertaken in accordance with the terms of a Consent Decree that will resolve the liability of the Responsible Party for natural resource damages under OPA and State law.

Dated: March 5, 2013.
Christopher C. Cartwright,
Associate Assistant Administrator for Management and CFO/CAO, Ocean Services and Coastal Zone Management.

[FR Doc. 2013-06140 Filed 3-15-13; 8:45 am]

BILLING CODE 3510-JE-P